FEDERAL COMMUNICATIONS COMMISSION

47 CFR Part 73

[DA 00-701; MM Docket No. 97-169; RM-9121 and RM-9170]

Radio Broadcasting Services; Coon Valley and Westby, WI and Lanesboro, MN

AGENCY: Federal Communications Commission.

ACTION: Petition for reconsideration, denial.

SUMMARY: This document denies a petition for reconsideration of a Report and Order Order, 63 FR 30145 (June 3, 1998), that allotted Channel 280A to both Westby, Wisconsin, and Lanesboro, Minnesota. These allotments provide first local aural transmission services to two communities that are more populous than Coon Valley, Wisconsin.

FOR FURTHER INFORMATION CONTACT: R. Barthen Gorman, Mass Media Bureau, (202) 418-2180.

SUPPLEMENTARY INFORMATION: This is a synopsis of the Commission's Memorandum Opinion and Order, MM Docket No. 97-169, adopted on March 22, 2000, and released on March 31, 2000. The full text of this Commission decision is available for inspection and copying during normal business hours in the FCC's Reference Information Center at Portals II, CY-A257, 445 12th Street, SW, Washington, DC. 20554. The complete text of this decision may also be purchased from the Commission's copy contractors, International Transcription Service, Inc., (202) 857-3800, located at 1231 20th Street, NW., Washington, DC 20036.

List of Subjects in 47 CFR Part 73

Radio broadcasting.

Federal Communications Commission.
John A. Karousos,
Chief, Allocations Branch, Policy and Rules Division, Mass Media Bureau.

[FR Doc. 00-9614 Filed 4-17-00; 8:45 am]

BILLING CODE 6712-01-P